COMMITTEE FOR THE IMPLEMENTATION OF TEXTILE AGREEMENTS

Request for Public Comments on Commercial Availability Petition Under the United States-Caribbean Basin Trade Partnership Act (CBTPA)

Correction

In notice document 05-6733 beginning on page 17074 in the issue of April 4, 2005, the entire text was incorrect and was published erroneously. The correct text of 05-6733 was filed for public inspection on March 31, 2005, but was not published. The document published erroneously is withdrawn. The correct text to notice document 05-6733 is published in the Notices section of this issue of the ÿ7EFederal Register.

[FR Doc. C5-6733 Filed 4-11-05; 8:45 am]

BILLING CODE 1505-01-D